DEPARTMENT OF HOUSING AND URBAN DEVELOPMENT

[Docket No. FR-4912-N-06]

Notice of Intent To Prepare a Draft Environmental Impact Statement for the Development of the Stillwater Business Park, City of Redding, CA

AGENCY: Office of the Assistant Secretary for Community Planning and Development, HUD.

ACTION: Notice.

SUMMARY: The Department of Housing and Urban Development (HUD) gives notice to the public, agencies, and Indian tribes that the City of Redding, CA, intends to prepare an Environmental Impact Statement (EIS)/Environmental Impact Report (EIR) (EIS/EIR) for the Stillwater Business Park Project located in Redding, CA. The City of Redding, CA, acting as the lead agency will prepare the EIS/EIR acting under its authority as the responsible entity for compliance with the National Environmental Policy Act (NEPA) in accordance with 42 U.S.C. 3547(c) and HUD regulations at 24 CFR 58.4, and under its authority as lead agency in accordance with the California Environmental Quality Act (CEQA). The EIS/EIR will be a joint NEPA and CEQA document. The EIR will satisfy requirements of the CEQA (Public Resources Code 21000 et seq.) and State CEQA Guidelines (14 California Code of Regulations 15000 et seq.), which require that all state and local government agencies consider the environmental consequences of projects over which they have discretionary authority before acting on those projects. Because federal Economic Development Initiative (EDI) special project funds would be used, the proposed action is also subject to NEPA. EPA State and Tribal Assistance Grants (STAG) will also fund water and wastewater related infrastructure. EPA is acting as a cooperating agency for this process. A permit under section 404 (b)(1) of the clean water act may be necessary. This notice is given in accordance with the Council on Environmental Quality regulations at 40 CFR parts 1500-1508. All interested federal, state, and local agencies, Indian tribes, groups, and the public are invited to comment on the scope of the EIS.

ADDRESSES: Comments relating to the scope of the EIS are requested and will be accepted by the contact persons listed below for up to 45 days following the publication of this notice to assure full consideration. At least one scoping meeting will be held no sooner than 15 days from the publication of this notice and will be noticed in the appropriate local media. Any person or agency interested in receiving a notice and making comment on the draft EIS should contact one of the persons listed below.

FOR FURTHER INFORMATION CONTACT: Randy Bachman, Administrative Services Director, City of Redding, P.O. Box 496071, Redding, CA 96049-6071; telephone (530) 225-4067, Fax (530) 225-4325 or Nathan Cherpeski, Management Assistant to the City Manager, City of Redding, P.O. Box 496071, Redding, CA 96049-6071; telephone (530) 225-4519, Fax (530) 225-4324.

SUPPLEMENTARY INFORMATION: This notice seeks public input on issues that should be addressed in the EIS/EIR and solicits input from potentially affected agencies and interested parties regarding the scope and content of the EIS/EIR.

The proposed action is the development of a large business park capable of attracting and accommodating primary industries to the Redding Area. The City of Redding is proposing the development of the area East and Northeast of the Municipal Airport in Redding, California. The proposed action site is located on the Enterprise and Cottonwood, California 7.5-minute USGS quadrangles, Township 31 North, Range 4 West, Sections 2, 3, 10, 14, 15, 22, 23, 26, 34, and 35. The proposed location is classified a portion as industrial and a portion as park under the Redding General Plan, adopted in 2000. The City's goal in developing this proposal is to increase the activity of contributory economic sectors by constructing a business park within the City of Redding sphere of influence capable of attracting and accommodating diverse business and industrial users.

Although additional alternatives may be identified during the scoping period, the following is a list of alternatives that the City of Redding has identified for consideration:

• Alternative 1: Develop large lot business park capable of accommodating a broad range of industries near the Redding Municipal Airport. This proposal would result in an approximate 687-acre business park consisting of 383 acres of developable land for a total of 4,410,400 sq. ft. of improvements for professional offices and industrial users. The proposal includes parcels ranging from 4 acres to more than 100 acres and is intended to be flexible in the configuration of those parcels to meet the needs of potential users. About 250 acres in the northern portion will be preserved as open space to protect the vernal pool and wetland features in the area and mitigation for impacts. An extensive trail system, for pedestrians and bikes, will wind throughout the project including through the open space preserve. Part of this trail will also serve as a utility access road for a proposed 115Kv transmission line that runs through the northern open space area and then down the east side of the project area and will need to be constructed in a manner to support vehicles. This alternative involves two bridge crossings of Stillwater Creek and the construction of a backbone road, trunk sewer lines, water lines, electric transmission lines, electrical substations, and other on-site and off-site utilities. It also reserves a floating right-of-way easement for a road to the property north of the project and a fixed 110′ right-of-way easement to the east. The environmental study area consists of 1055 acres with approximately 80 acres of wetlands or jurisdictional waters, most of which would not be impacted. Implementation of this alternative would result in direct discharge of fill material into waters of the U.S. totaling more than 3 acres but less than 7 acres.

• Alternative 2: (proposed action): An onsite variation of Alternative 1 intended to reduce the intensity of impacts. The overall project is 687 acres with approximately 383 acres of developable land. The proposal includes parcels ranging from 4 acres to more than 100 acres and is intended to be flexible in the configuration of those parcels to meet the needs of potential users. The major change for this alternative is that it relocates the 115Kv transmission lines away from the open space area to the west side of the property near the proposed backbone road. This alternative also removes both the floating easement to the north and the 110′ right of way easement to the east. Traffic models show these roads are not necessary to achieve the project goals. About 250 acres in the northern portion will be preserved as open space to protect the vernal and wetland features in the area and as mitigation for impacts. The trail system, for pedestrian or bicycle use only, will remain in the open space area to provide public recreation and educational benefits. Implementation of this alternative would result in direct discharge of fill material into waters of the U.S. totaling less than 3 acres.

• Alternative 3: This offsite alternative includes the combination of separately owned parcels into a single large (approximately 395 developable acres) site Northwest of the Redding Municipal Airport. This alternative could also have direct and indirect impacts upon wetlands (including but not limited to vernal pool features) and waters of the U.S. It is anticipated that this site could provide parcels ranging from 1.5 acres to 100 acres to meet the need for flexible parcel configurations. Based on projections for professional office and industrial users this site could provide up to 4,499,000 sq. ft. for development. The availability of this land is yet to be determined. This alternative could yield various on-site alternatives as well.

• No Project—No Action. No action would be taken. Significant portions of alternatives 1, 2, and 3 are zoned for development and these areas will likely develop over the next 20 years in some fashion absent this action.

The EIS/EIR will address the following environmental issues: Air quality, cultural resources, flood hazard, hydrology, noise, hazardous materials, biological resources, traffic, land use, erosion control, environmental justice, and secondary and cumulative impacts. Each of the action alternatives identified to date include areas designated as critical habitat for vernal pool species and some occurrences of listed vernal pool species are found within all action alternatives. Other issues or alternatives may be identified during the scoping process.

The following agencies have been or will be invited to serve as cooperating agencies: U.S. Army Corps of Engineers, U.S. Fish and Wildlife Service, National Marine Fisheries Service, and EPA.

Questions may be directed to the individuals named in this notice under the heading FOR FURTHER INFORMATION CONTACT.

Dated: May 3, 2004.
Roy A. Bernardi,
Assistant Secretary for Community Planning and Development.

[FR Doc. 04-10606 Filed 5-10-04; 8:45 am]

BILLING CODE 4210-29-P